DEPARTMENT OF COMMERCE

National Telecommunications and Information Administration

[Docket No. 981203295-0355-05]

RIN 0660-ZA06; CFDA 11.552

Technology Opportunities Program

AGENCY: National Telecommunications and Information Administration, Commerce.

ACTION: Notice of availability of funds.

SUMMARY: The National Telecommunications and Information Administration (NTIA) issues this Notice describing the conditions under which applications will be received under the Technology Opportunities Program (TOP) and how NTIA will determine which applications it will fund. TOP promotes the widespread availability and use of digital network technologies in the public and non-profit sectors.

To accomplish this objective, TOP provides matching grants to state, local, and tribal governments and non-profit entities for model projects that demonstrate innovative uses of digital network technologies in underserved communities. TOP projects address specific challenges and realize opportunities in such areas as lifelong learning, community and economic development, government and public services, safety, health, and culture and the arts.

DATES: Complete applications for the Fiscal Year 2001 TOP grant program must be mailed or hand-carried to the address indicated below and received by NTIA no later than 8:00 P.M. EST, March 22, 2001.

ADDRESSES: Applications must be mailed to: Technology Opportunities Program National Telecommunications and Information Administration U.S. Department of Commerce 1401 Constitution Avenue, NW. HCHB, Room 4092 Washington, DC 20230 or hand-delivered to: Technology Opportunities Program National Telecommunications and Information Administration U.S. Department of Commerce HCHB, Room 1874 1401 Constitution Avenue, NW. Washington, DC 20230. Room 1874 is located at entrance #10 on 15th Street NW., between Pennsylvania and Constitution Avenues.

FOR FURTHER INFORMATION, CONTACT: Stephen J. Downs, Director of the Technology Opportunities Program. Telephone: 202-482-2048; fax: 202-501-5136; e-mail: top@ntia.doc.gov.

SUPPLEMENTARY INFORMATION:

Authority

Consolidated Appropriations Act for FY2001, Pub. L. 106-553.

Eligible Organizations

All non-profit entities (including, but not limited to, non-profit community-based organizations, non-profit health care providers, public health institutions, schools, libraries, museums, colleges, universities, public safety providers) and state, local, and tribal governments are eligible to apply. Although individuals and for-profit organizations are not eligible to apply, they are encouraged to participate as project partners.

Funding Availability

Approximately $42.5 million is available for federal assistance. A small amount of funds that have been deobligated from grants awarded in previous fiscal years may also be available for Fiscal Year 2001 grants. Based on past experience, NTIA expects this year's grant round to be very competitive. In Fiscal Year 2000, NTIA received over 660 applications collectively requesting more than $270 million in federal funds. From these applications, the Department of Commerce announced 35 awards totaling $13.9 million in federal funds.

Award Amounts

An applicant may request up to a total of $900,000 in funds from NTIA. TOP expects the federal amounts awarded to range from $200,000 to $900,000, with an average of approximately $500,000.

Matching Funds Requirements

Grant recipients under this program will be required to provide matching funds toward the total project cost. Applicants must document their capacity to provide matching funds. Matching funds may be in the form of cash or in-kind contributions.

NTIA will provide up to 50 percent of the total project cost, unless the applicant can document extraordinary circumstances warranting a grant of up to 75 percent. Grant funds under this program are usually released in direct proportion to local matching funds utilized and documented as having been expended.

Generally, federal funds may not be used as matching funds, except as provided by federal statute. If you plan to use funds from a federal agency, you should contact the federal agency that administers the funds in question and obtain documentation from that agency's Office of General Counsel to support the use of federal funds for matching purposes.

Completeness of Application

TOP will initially review all applications to determine whether all required elements are present and clearly identifiable. The required elements are listed and described in the Guidelines for Preparing Applications—Fiscal Year 2001. Each of the required elements must be present and clearly identified. Failure to do so may result in rejection of the application.

Application Deadline

As noted above, complete applications for the Fiscal Year 2001 TOP grant program must be received by NTIA no later than 8 p.m. est, March 22, 2001. A postmark date is not sufficient. Applications which have been provided to a delivery service on or before March 21, 2001, with “delivery guaranteed” before 8 p.m. on March 22, 2001, will be accepted for review if the applicant can document that the application was provided to the delivery service with delivery to the address listed above guaranteed prior to the closing date and time. Applications will not be accepted via facsimile machine transmission or electronic mail. NTIA anticipates that it will take approximately six months to complete the review of applications and make final funding decisions.

Program Funding Priorities

While access to computers and the Internet among underserved populations is increasing, effective use of digital network technologies continues to lag in underserved communities and the organizations that serve them.¹ Across the country, various groups of people and geographic communities face technological, economic, physical, linguistic, or cultural barriers that limit or prevent their use of digital network technologies or vital services. Through TOP, NTIA provides underserved communities with opportunities to overcome these barriers and explore the benefits that emerging digital network technologies offer.

¹ Recent NTIA-sponsored reports, including Falling Through the Net, Toward Digital Inclusion and Historically Black Colleges and Universities: An Assessment of Networking and Connectivity, provide more details on the levels of access among specific communities. These reports are accessible via NTIA's home page at http://www.ntia.doc.gov.

TOP projects demonstrate creative uses of digital networks to address challenges in the public and non-profit sectors. All funded projects must be interactive in that they allow end users to share information with each other or gain access to information on an on-demand basis, as opposed to a one-way or broadcast basis.² TOP supported projects must also involve communication and new partnerships among multiple unaffiliated organizations or enable direct, interactive communication between an organization and the public it serves.

² An “end user” is an individual who directly utilizes the network technology.

Fundamental to any TOP project is the applicant's vision of how to use networks to address specific challenges and realize opportunities in such areas as lifelong learning, community and economic development, government and public services, safety, health, and culture and the arts. Rather than simply requesting funds to build capacity or upgrade existing equipment, each application should describe a project that identifies specific problems, proposes creative solutions, and postulates measurable outcomes.

As a national program, TOP emphasizes innovation, learning, and diffusion of new ideas and practical knowledge. Each TOP-supported project must be innovative in the sense that it represents a departure from how other communities and groups across the country are using network technology to address pressing challenges. Each TOP project should yield new insights into how best to use network technology and offer opportunities to learn what works well and what doesn't. Because these grants will serve as national models for other communities, NTIA expects each project to include provisions for thorough evaluations that will provide valid and reliable data as well as valuable lessons learned to be shared with others interested in the project.

For the FY 2001 grant competition, TOP is especially interested in projects that involve:

• Broadband technologies that bring very high-speed communications directly to end users;

• Mobile wireless communication technologies that offer end users greater flexibility in how, where, and when they access information;

• Empowering end users to move beyond passive information consumption to become valued contributors to the development, modification, and expansion of shared information resources; ³

³ For example, once isolated communities now use Internet technology to collect and express their histories; children have become agents of community change as they have used network technology to collect information, provide analysis, and contribute to the public policy dialogue in their communities; and citizens are exploring the creation of databases which enrich the resources made available by local and state governments.

• Emerging data sharing techniques that facilitate the seamless and secure exchange of information across organizational boundaries; and

• Sustainable strategies to pool community demand to support the widespread availability of digital network services.

As in past years, TOP is also especially interested in projects developed by smaller, locally-based organizations that both serve and represent underserved communities across the nation. For example, these organizations may include but are not limited to: community-based organizations; small non-profits; colleges and universities serving rural communities; Minority Serving Institutions (Historically Black Colleges and Universities, Hispanic Serving Institutions, and Tribal Colleges and Universities); and organizations representing Empowerment Zones and Enterprise Communities.

In previous fiscal years, NTIA supported planning projects whose primary goal was to develop strategies for the development of network technologies. The emphasis for Fiscal Year 2001 is on projects that develop and use network technologies. NTIA will, however, support projects that incorporate some planning activities as part of the proposed project.

Limitations on Project Scope

Each TOP project is expected to include a range of activities that support project development, implementation, and evaluation. However, TOP will not support projects whose primary purpose is to develop hardware or software, to provide training on the use of the network technologies, or to build voice-based systems. Details on these restrictions are discussed below.

(1) Hardware or Software Development Projects. Some projects may require limited software development or the customization or modification of existing software or hardware in order to meet particular end-user requirements or to enable the exchange of information across networks. However, the creation of a software or hardware product cannot be a project's primary purpose.

(2) Training Projects. While TOP does consider training to be an essential aspect of most projects, TOP will not support projects whose primary purpose is to provide training in the use of software applications, Internet use, or other use of network technologies.

(3) Voice-based Systems. Two-way, interactive voice networks are an important element of the existing network systems. Voice as a means for conveying information and voice input tools play critical roles in ensuring people with disabilities have access to network technology. However, TOP will not support projects whose primary purpose is to either build or install voice-based communication networks such as call centers, two-way radio networks, enhanced-911 and 311 systems, or 800 MHZ radio systems.

Review Criteria

Reviewers will review and rate each application using the following criteria. The relative weights of each criterion are identified in parentheses.

1. Project Purpose (20%)

Each application should describe a clearly defined project that focuses on underserved communities. In this criterion, reviewers will judge each application on (1) the overall design of the project and (2) the degree to which it provides opportunities for underserved communities.

In assessing the project design, reviewers will examine the degree to which the applicant clearly: Defines the problem(s) within the community to be served and describes its severity; proposes creative and practical means of addressing the community's problem(s) employing digital network technologies; and identifies anticipated outcomes and that are both realistic and measurable. Reviewers will also assess the degree to which an applicant convincingly links the three major elements—problem(s), solution(s), and outcome(s).

Reviewers will assess the degree to which the project targets underserved communities and populations, and the degree to which the proposed project will address the circumstances and challenges (such as poverty, low literacy, disabilities, high unemployment, low educational achievement, high crime rate, poor health status, etc.) they face.

2. Innovation (20%)

Reviewers will assess innovation by examining both the technology to be used and the application of technology in a particular setting, to serve a particular population, or to solve a particular problem. TOP defines innovation broadly. For example, projects that involve imaginative partnerships, the introduction of new business processes designed to offer more effective services, untested strategies for overcoming access barriers, or new techniques that transform inter-organizational relationships can all be considered innovative. TOP encourages applicants to experiment with leading edge technologies. It is, however, the creativity behind the application of the technology to meet community needs that ultimately determines the level of innovation.

Using their experience in their respective fields, reviewers will examine each project in a national context and evaluate (1) how an application compares with, complements, and improves on the existing base of knowledge and project practices and (2) what insight(s) the proposed project could add to what is known about using digital network technology as a solution to problems in its particular field.

3. Diffusion Potential (20%)

The innovations and approaches to be demonstrated in any proposed project should contain the potential to be diffused broadly throughout the country. NTIA expects that each awarded project will serve as a model for other communities to follow.

To assess this potential for diffusion, reviewers will consider four factors:

(1) The degree to which the problem identified by the applicant is common to many communities;

(2) The relative advantage of the project's innovations over established approaches to addressing the specified problems;

(3) The ease of replication and adaptation, based on considerations such as cost and complexity; and

(4) The applicant's plans and budget resources dedicated to disseminate actively the knowledge gained from the project's successes and failures.

4. Project Feasibility (15%)

In assessing the feasibility of each application, reviewers will focus on six issues: the technical approach, the qualifications of the project staff, the proposed budget, the implementation schedule, plans for protecting privacy, and the applicant's plan for sustaining the project beyond the grant period.

(1) In assessing technical approach, reviewers will examine the degree to which the proposed system would work and operate with other systems; technological alternatives that have been considered; designs for system maintenance and periodic upgrades; and plans project expansion. Applicants are expected to make use of existing infrastructure and commercially available telecommunications services, unless extraordinary circumstances require the construction of new network facilities.

(2) In assessing the qualifications of the project team, reviewers will assess the applicant and its partners to determine if they have the resources, expertise, and experience necessary to undertake, evaluate, and complete the project and disseminate results within the proposed period.

(3) Reviewers will analyze the budget in terms of clarity and cost-effectiveness. The proposed budget should be appropriate to the tasks proposed and sufficiently detailed so that reviewers can easily understand the relationship of items in the budget to the project narrative.

(4) Reviewers also will assess the degree to which the implementation process is comprehensive, reasonable, and can be completed in the proposed time frame.

(5) Reviewers will evaluate the applicant's plans to safeguard the privacy of the project's end users and others affected by the project.

(6) Finally, reviewers will examine the applicant's strategies to sustain the project after the completion of the grant.

5. Community Involvement (15%)

Each application will be rated on the overall level and breadth of community involvement in the development and implementation of the proposed project. Reviewers will:

(1) Analyze the applicant's partnerships to ensure that they include linkages among unaffiliated organizations (from the public, non-profit, or private sectors) as an ongoing and integral part of project planning and implementation. TOP considers partners to be organizations that supply cash or in-kind resources and/or play an active role in the planning and implementation of the project;

(2) Examine the steps the applicant has taken to include and sustain the involvement of a variety of community stakeholders. Reviewers will look for evidence of demand, from the community, the end users, and the potential beneficiaries, for the services proposed by the project; and

(3) Consider the degree of attention paid to the needs, skills, working conditions, and living environments of the targeted end users. Reviewers will consider the extent to which applicants involve representatives from a broad range of potential users in both the design and implementation of the project and consider the varying degrees of abilities of all end users, including individuals with disabilities. Reviewers will also assess the degree to which the project addresses barriers which limit a community's or a group's access to digital network technologies. Finally, reviewers will assess the applicant's plans for training end users and upgrading their skills.

6. Evaluation (10%)

Each application will be rated on its proposed plans for evaluating the project. Reviewers will assess the extent to which the applicant's research or evaluation design: (1) Provides for continuous feedback for project planning, implementation, review and revision; (2) addresses the problems, solutions, and anticipated outcomes described in the project purpose and yields valid and reliable findings; (3) captures lessons learned and sufficient descriptive data so that others may easily adapt and replicate the project; and (4) meets TOP's requirements for an independent evaluation as described in the “Reporting Requirements” section of this Notice.

Reviewers will examine:

(1) The research design and methodology;

(2) Evaluation questions, data collection, and data analysis plans;

(3) The qualifications of any staff or external evaluators working on the evaluation; and

(4) The allocation of resources for implementing the evaluation and reporting project findings.

Eligible Costs

Eligible Costs. Allowable costs incurred under approved projects shall be determined in accordance with applicable federal cost principles, i.e., OMB Circular A-21, A-87, A-122, or appendix E of 45 CFR part 74. If included in the approved project budget, TOP will allow costs for personnel; fringe benefits; computer hardware, software, and other end-user equipment; telecommunication services and related equipment; consultants, evaluators, and other contractual services; travel; rental of office equipment, furniture, and space; and supplies. All costs must be reasonable and directly related to the project.

Indirect Costs. The total dollar amount of the indirect costs proposed in an application under this program must not exceed the indirect cost rate negotiated and approved by a cognizant federal agency.

Ineligible Costs

Costs associated with the construction or major renovation of buildings are not eligible. While costs for the construction of new network facilities are eligible costs, applicants are expected to make use of existing infrastructure and commercially available telecommunications services. Only under extraordinary circumstances will the construction of new network facilities be approved.

Costs of the professional services, such as instruction, counseling, or medical care, provided via a network supported through this program are not eligible.

Note that costs that are ineligible for TOP support may not be included as part of the applicant's matching fund contribution.

In addition, the Appropriations for Fiscal Year 2001 places restrictions on eligible costs for applicants that are recipients of Universal Service Fund discounts and applicants receiving assistance from the Department of Justice's Regional Information Sharing Systems Program as part of the project costs.

This statute provides:

That notwithstanding any other provision of law, no entity that receives telecommunications services at preferential rates under section 254(h) of the Act (47 U.S.C. 254(h)) or receives assistance under the regional information sharing systems grant program of the Department of Justice under part M of title I of the Omnibus Crime Control and Safe Streets Act of 1968 (42 U.S.C. 3796h) may use funds under a grant under this heading to cover any costs of the entity that would otherwise be covered by such preferential rates or such assistance, as the case may be.⁴

⁴ Consolidated Appropriations Act for FY2001, Pub. L. 106-553.

Accordingly, recipients of the above-described preferential rates or assistance are prohibited from including any costs that would be covered by such preferential rates or assistance in their proposed TOP grant budget. More details on this restriction can be found in the Guidelines for Preparing Applications—Fiscal Year 2001.

Award Period

Successful applicants will have between 12 and 36 months to complete their projects. While the completion time will vary depending on the complexity of the project, NTIA has found that most grant recipients require at least two years to complete and fully evaluate their projects. Accordingly, NTIA encourages applicants to propose projects that last two to three years.

Selection Process

The selection process will last approximately six months and involves four stages:

(1) During the first stage, each eligible application will be reviewed by a panel of outside readers, who have demonstrated expertise in both the programmatic and technological aspects of the application. The review panels will evaluate applications according to the review criteria provided in this notice and make non-binding written recommendations to the program.

(2) Upon completion of the external review process, program staff may analyze applications as necessary. Program staff analysis will be based on the degree to which a proposed project meets the program's funding scope as described in the section entitled “Limitations on Project Scope”; the eligibility of costs and matching funds included in an application's budget; and the extent to which an application complements or duplicates projects previously funded or under consideration by NTIA or other federal programs.⁵ The analysis of program staff will be provided to the TOP Director in writing.

⁵ See discussion of “Eligible Costs” and “Matching Funds Requirements” in this Notice.

The TOP Director then prepares and presents a slate of recommended grant awards to the Office of Telecommunications and Information Applications' (OTIA) Associate Administrator for review and approval.⁶ The Director's recommendations and the Associate Administrator's review and approval will take into account the following selection factors:

⁶ The Office of Telecommunication and Information Applications is the division of the National Telecommunications and Information Administration that supervises NTIA's grant awards programs.

1. The evaluations of the outside reviewers;

2. The analysis of program staff;

3. The degree to which the proposed grants meet the program's priorities as described in the section entitled “Program Funding Priorities';

4. The geographic distribution of the proposed grant awards;

5. The variety of technologies and diversity of uses of the technologies employed by the proposed grant awards;

6. The provision of access to and use of digital network technologies by rural communities and other underserved groups;

7. Avoidance of redundancy and conflicts with the initiatives of other federal agencies; and,

8. The availability of funds.

(3) Upon approval by the OTIA Associate Administrator, the Director's recommendations will then be presented to the Selecting Official, the NTIA Administrator. The NTIA Administrator selects the applications to be negotiated for possible grant award taking into consideration the Director's recommendations and the degree to which the slate of applications, taken as a whole, satisfies the selection factors described above and the program's stated purposes as set forth in the section entitled “Program Purposes.”

(4) After applications have been selected in this manner, negotiations will take place between TOP staff and the applicant. These negotiations are intended to resolve any differences that exist between the applicant's original request and what TOP proposes to fund, and if necessary, to clarify items in the application. Not all applicants who are contacted for negotiation will necessarily receive a TOP award. Final selections made by the Administrator will be based upon the recommendations by the Director and the OTIA Associate Administrator and the degree to which the slate of applications, taken as a whole, satisfies the program's stated purposes as set forth in the section entitled “Program Purposes,” upon the conclusion of negotiations.

Use of Program Income

Applicants are advised that any program income generated by a proposed project is subject to special conditions. Anticipated program income must be documented appropriately in the project budget. In addition, should an application be funded, unanticipated program income must be reported to TOP, and the budget for the project must be renegotiated to reflect receipt of this program income. Program income means gross income earned by the recipient that is either directly generated by a supported activity, or earned as a result of the award. In addition, federal policy prohibits any recipient or subrecipient receiving federal funds from the use of equipment acquired with these funds to provide services to non-federal outside organizations for a fee that is less than private companies charge for equivalent services. This prohibition does not apply to services provided to outside organizations at no cost.

Policy on Sectarian Activities

Applicants are advised that on December 22, 1995, NTIA issued a notice in the Federal Register on its policy with regard to sectarian activities. Under NTIA's policy, while religious activities cannot be the essential thrust of a grant, an application will not be ineligible where sectarian activities are only incidental or attenuated to the overall project purpose for which funding is requested. Applicants for whom this policy may be relevant should read the policy that was published in the Federal Register at 60 FR 66491, Dec. 22, 1995.

Reporting Requirements

To ensure compliance with federal regulations and collect systemic evaluation data on each project, successful TOP applicants have a number of basic reporting requirements once they are awarded a grant. At project outset, TOP grantees provide detailed baseline information on the project objectives, goals, partners, and populations served. Each quarter, grantees provide financial reports and updates on project activities. At project completion, TOP grantees must also provide a closeout report. Finally, because evaluation results play such a critical role in helping other organizations learn about what works well and what does not, each TOP-supported project will provide NTIA a final evaluation report. To ensure the validity of the findings, the final evaluation report must be completed by an independent evaluator or team of evaluators who are not in a direct reporting relationship with the applicant.⁷ TOP will make copies of the final evaluation report available to the public.

⁷ In large institutions, such as universities, colleges, and foundations, an independent evaluator can include a representative from departments not associated with the applicant. In addition, TOP's requirement for having a grantee have an independent evaluator develop the final evaluation report does not preclude an applicant from conducting the evaluation in conjunction with an independent evaluator.

Waiver Authority

It is the general intent of NTIA not to waive any of the provisions set forth in this Notice. However, under extraordinary circumstances and when it is in the best interest of the federal government, NTIA, upon its own initiative or when requested, may waive the provisions in this Notice. Waivers may only be granted for requirements that are discretionary and not mandated by statute. Any request for a waiver must set forth the extraordinary circumstances for the request and be included in the application or sent to the address provided in the ADDRESSES section above. NTIA will not consider a request to waive the application deadline for an application until the application has been received.

Other Information

Electronic Information. Information about NTIA and TOP, including this document and the Guidelines for Preparing Applications—Fiscal Year 2001, can be retrieved electronically via the Internet using the World Wide Web at http://www.ntia.doc.gov/otiahome/top/. This document can be provided in alternate formats, including braille. If you need assistance please contact TOP at 202-482-2048 or top@ntia.doc.gov.

In order to facilitate the diffusion of ideas generated by the grant round and opportunities for other potential funders to identify promising projects, TOP will provide a copy of each application's executive summary and contact information on its home page.

Application Forms. Standard Forms 424 (OMB Approval Number 0348-0044), Application for Federal Assistance; 424A (OMB Approval Number 0348-0043), Budget Information—Non-Construction Programs; and 424B (OMB Approval Number 0348-0040), Assurances—Non-Construction Programs, (Rev 4-92), and other Department of Commerce forms shall be used in applying for financial assistance. These forms are included in the Guidelines for Preparing Applications—Fiscal Year 2001. TOP requests one original and five copies of the application. Applicants for whom the submission of five copies presents financial hardship may submit one original and two copies of the application. Notwithstanding any other provision of law, no person is required to respond to nor shall a person be subject to a penalty for failure to comply with a collection of information subject to the requirements of the Paperwork Reduction Act unless that collection of information displays a currently valid OMB control number. In addition, all applicants are required to submit a copy of their application to their state Single Point of Contact (SPOC) offices, if they have one. For information on contacting state SPOC offices, refer to the Guidelines for Preparing Applications—Fiscal Year 2001.

Because of the high level of public interest in projects supported by TOP, the program anticipates receiving requests for copies of successful applications. Applicants are hereby notified that the applications they submit are subject to the Freedom of Information Act. To assist NTIA in making disclosure determinations, applicants may identify sensitive information and label it “confidential.”

Type of Funding Instrument. The funding instrument for awards under this program shall be a grant.

Federal Policies and Procedures. Recipients and subrecipients are subject to all applicable federal laws and federal and Department of Commerce policies, regulations, and procedures applicable to federal financial assistance awards. Information on Department of Commerce Policies can be found on the Internet through the Department of Commerce's Office of Executive Assistance Management (OEAM).

Pre-Award Activities. If an applicant incurs any project costs prior to the project start date negotiated at the time the award is made, it does so solely at its own risk of not being reimbursed by the government. Applicants are hereby notified that, notwithstanding any oral or written assurance that they may have received, there is no obligation on the part of the Department of Commerce to cover pre-award costs.

No Obligation for Future Funding. If an application is selected for funding, the Department of Commerce has no obligation to provide any additional future funding in connection with that award. Renewal of an award to increase funding or extend the period of performance is at the total discretion of the Department of Commerce.

Past Performance. Unsatisfactory performance of an applicant under prior federal financial assistance awards may result in that applicant's proposal not being considered for funding.

Delinquent Federal Debts. No award of federal funds shall be made to an applicant who has an outstanding delinquent federal debt until:

1. The delinquent account is paid in full;

2. A negotiated repayment schedule is established and at least one payment is received; or

3. Other arrangements satisfactory to the Department of Commerce are made.

Purchase of American Made Products. Applicants are hereby notified that any equipment or products authorized to be purchased with funding provided under this program must be American-made to the maximum extent feasible.

Name Check Review. All non-profit applicants are subject to a name check review process. Name checks are intended to reveal if any key individuals associated with the applicant have been convicted of or are presently facing criminal charges such as fraud, theft, perjury, or other matters that significantly reflect on the applicant's management, honesty, or financial integrity.

Primary Applicant Certifications. All primary applicants must submit a completed Form CD-511, “Certifications Regarding Debarment, Suspension and Other Responsibility Matters; Drug-Free Workplace Requirements and Lobbying,” and the following explanations are hereby provided:

1. Nonprocurement Debarment and Suspension—Prospective participants (as defined at 15 CFR part 26, section 105) are subject to 15 CFR part 26, “Nonprocurement Debarment and Suspension” and the related section of the certification form prescribed above applies;

2. Drug-Free Workplace—Grantees (as defined at 15 CFR part 26, section 605) are subject to 15 CFR part 26, subpart F, “Government wide Requirements for Drug-Free Workplace (Grants)” and the related section of the certification form prescribed above applies;

3. Anti-Lobbying—Persons (as defined at 15 CFR part 28, section 105) are subject to the lobbying provisions of 31 U.S.C. 1352, “Limitation on use of appropriated funds to influence certain federal contracting and financial transactions,” and the lobbying section of the certification form prescribed above applies to applications/bids for grants, cooperative agreements, and contracts for more than $100,000, and loans and loan guarantees for more than $150,000, or the single family maximum mortgage limit for affected programs, whichever is greater; and

4. Anti-Lobbying Disclosure—Any applicant that has paid or will pay for lobbying in connection with a covered federal action, such as the awarding of any federal contract, the making of any federal grant, the making of any federal loan, the entering into of any cooperative agreement, or the extension, continuation, renewal, amendment, or modification of any federal contract, grant, loan, or cooperative agreement using any funds must submit an SF-LLL, “Disclosure of Lobbying Activities” (OMB Control Number 0348-0046), as required under 15 CFR part 28, Appendix B.

Lower Tier Certifications. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form SF-LLL, “Disclosure of Lobbying Activities.” Form CD-512 is intended for the use of recipients and should not be transmitted to DOC. SF-LLL submitted by any tier recipient or subrecipient should be submitted to DOC in accordance with the instructions contained in the award document.

False Statements. A false statement on an application is grounds for denial or termination of funds and grounds for possible punishment by a fine or imprisonment as provided in 18 U.S.C. § 1001.

Intergovernmental Review. Applications under this program are subject to Executive Order 12372, “Intergovernmental Review of Federal Programs.” It has been determined that this notice is a “not significant” rule under Executive Order 12866.

Gregory L. Rohde,
Assistant Secretary for Communications and Information.

[FR Doc. 01-657 Filed 1-10-01; 8:45 am]

BILLING CODE 3510-60-U